DEPARTMENT OF JUSTICE

Notice of Lodging of Proposed Consent Decree Under the Comprehensive Environmental Response, Compensation, and Liability Act

On December 21, 2015, the Department of Justice lodged a proposed Consent Decree with the United States District Court for the Northern District of Indiana in the lawsuit entitled United States and the State of Indiana v. Anderson Products Inc., et al, Civil Action No. 15-613.

The United States and the State filed the lawsuit under the Comprehensive Environmental Response, Compensation, and Liability Act (CERCLA). The Complaint names seven parties as Defendants: Anderson Products Inc., doing business in Indiana as Anco Products, Inc.; B-D Industries; Elkhart Plating Corp.; FFP Holdings, LLC, formerly known as Flexible Foam Products, Inc.; Gaska Tape Inc.; Holland Metal Fab, Inc.; and Walerko Tool and Engineering Corp. The Complaint seeks recovery of certain costs that the United States and the State incurred and/or will incur in responding to releases of hazardous substances at the Lusher Street Groundwater Contamination Superfund Site located in the City of Elkhart, Elkhart County, Indiana. This includes the State's past costs of $26,436.38. The Consent Decree requires Defendants to reimburse those State costs and perform injunctive relief related to groundwater contamination and associated soil vapor for Operable Unit 1 at the Site. In return, the United States and the State agree not to pursue the Defendants under Sections 106 and 107 of CERCLA for the matters addressed in the Consent Decree.

The publication of this notice opens a period for public comment on the proposed Consent Decree. Comments should be addressed to the Assistant Attorney General, Environment and Natural Resources Division, and should refer to United States and the State of Indiana v. Anderson Products Inc., et al, D.J. Ref. No. 90-11-3-11212. All comments must be submitted no later than thirty (30) days after the publication date of this notice. Comments may be submitted either by email or by mail:

To submit comments: | Send them to:
By e-mail | pubcomment-ees.enrd@usdoj.gov
By mail | Assistant Attorney General U.S. DOJ—ENRD P.O. Box 7611 Washington, D.C. 20044-7611

During the public comment period, the proposed Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $42.00 (25 cents per page reproduction cost) payable to the United States Treasury.

Randall M. Stone,
Acting Assistant Section Chief, Environmental Enforcement Section, Environment and Natural Resources Division.

[FR Doc. 2015-32727 Filed 12-28-15; 8:45 am]

BILLING CODE 4410-15-P